ENVIRONMENTAL PROTECTION AGENCY

[FRL-9962-04-Region 5]

Proposed De minimis Settlement With Sunoco (R&M), LLC at Lammers Barrel Site in Beavercreek, Ohio

AGENCY: Environmental Protection Agency (EPA).

ACTION: Notice; request for public comment.

SUMMARY: In accordance with Section 122(i) of the Comprehensive Environmental Response, Compensation, and Liability Act of 1980, as amended (“CERCLA”), notice is hereby given by the U.S. Environmental Protection Agency (“EPA”), Region 5, of a proposed de minimis administrative agreement under Section 122(g) of CERCLA, between EPA and Sunoco (R&M), LLC. pertaining to the Lammers Barrel Superfund Site located in the Beavercreek, Greene County, Ohio (“Site”). The settlement requires a $85,253.85 payment by Sunoco (R&M), LLC. to the EPA Hazardous Substance Superfund Lammers Barrel Superfund Site Special Account set aside for the remedial design and remedial action (RD/RA) work at operable unit 2 (“OU2”). Crediting the $73,538 Sunoco (R&M), LLC previously paid to the group of parties performing work at the Site, it will have paid $158,791.85, its fair share of cleanup costs incurred and anticipated to be incurred in the future at the Site, plus a “premium” that accounts for, among other things, uncertainties associated with the costs of future work at the Site. The payment also factors in an orphan share based on 25% of the estimated RD/RA costs at OU2. The settlement includes a covenant not to sue pursuant to Sections 106 and 107 of CERCLA, relating to the Site, subject to limited reservations, and protection from contribution actions or claims as provided by Sections 113(f)(2) and 122(g)(5) of CERCLA. For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at EPA Region 5, 77 West Jackson Blvd., Chicago, IL. 60604.

DATES: Comments must be submitted on or before July 28, 2017.

ADDRESSES: The proposed settlement is available for public inspection at EPA Region 5 offices at 77 West Jackson Blvd., Chicago, IL 60604. A copy of the proposed settlement may be obtained from Maria Gonzalez, Associate Regional Counsel, Region 5, 77 West Jackson Blvd., mail code: C-14J, Chicago, IL 60604. Comments should reference the Lammers Barrel Superfund Site, and EPA Docket No. V-W-17-C-006 and should be addressed to Maria Gonzalez, Associate Regional Counsel, EPA, Office of Regional Counsel, Region 5, 77 West Jackson Blvd., mail code: C-14J, Chicago, IL 60604.

FOR FURTHER INFORMATION CONTACT: Maria Gonzalez, Associate Regional Counsel, EPA, Office of Regional Counsel, Region 5, 77 West Jackson Blvd., mail code: C-14J, Chicago, IL 60604. Telephone: 312-886-6630. E-Mail: gonzalez.maria@epa.gov.

SUPPLEMENTARY INFORMATION: EPA executed a Consent Decree with Sixteen major parties, the owner, twenty-one de minimis parties, and two Federal agencies that was entered on April 22, 2014, after public comment (the Consent Decree). The Consent Decree addressed the remedial design and remedial action at OU1 of the Site as well as de minimis settlement. EPA previously issued an administrative order on consent for a remedial investigation and feasibility study (RI/FS) in 2002, and amended it in 2008, to add more parties. The group is conducting the RD/RA at OU2 and continues the RI/FS at OU1. EPA brought a cost recovery action against two other parties Sunoco, Inc. and Dayton Industrial Drums, Inc. in 2016. The proposed settlement does not cover those parties.

Dated: April 21, 2017.
Margaret M. Guerriero,
Acting Director, Superfund Division.

[FR Doc. 2017-13541 Filed 6-27-17; 8:45 am]

BILLING CODE 6560-50-P